DEPARTMENT OF TRANSPORTATION

Federal Highway Administration

Notice of Final Federal Agency Actions on Proposed Highways in Alaska

AGENCY: Federal Highway Administration (FHWA), DOT.

ACTION: Notice of Limitation on Claims for Judicial Review of Actions by FHWA.

SUMMARY: This notice announces actions taken by the FHWA that are final within the meaning of 23 U.S.C. 139(l)(1). The actions relate to various proposed highway projects in the State of Alaska. Those actions grant approvals for the projects.

DATES: By this notice, the FHWA is advising the public of final agency actions subject to 23 U.S.C. 139(l)(1). A claim seeking judicial review of the Federal agency actions on the listed highway project will be barred unless the claim is filed on or before December 24, 2008. If the Federal law that authorizes judicial review of a claim provides a time period of less than 180 days for filing such claim, then that shorter time period still applies.

FOR FURTHER INFORMATION CONTACT: Mr. Michael E. Vanderhoof, Environmental Coordinator, FHWA Alaska Division, P.O. Box 21648, Juneau, Alaska 99802-1648; office hours 8 a.m.-4 p.m. (AST), phone (907) 586-7418; e-mail michael.vanderhoof@fhwa.dot.gov. You may also contact Jerry O. Ruehle, DOT&PF Central Region Environmental Manager, Alaska Department of Transportation and Public Facilities, 4111 Aviation Drive, P.O. Box 196900, Anchorage, Alaska 99519-6900; office hours 7:30 a.m.—5 p.m. (AST), phone (907) 269-0534, e-mail Jerry_Ruehle@dot.state.ak.us.

SUPPLEMENTARY INFORMATION: Notice is hereby given that the FHWA has taken final agency actions by issuing approvals for the following highway project in the State of Alaska that is listed below. The actions by the Federal agency on the project, and the laws under which such actions were taken, are described in the Environmental Assessment (EA) and Finding of No Significant Impact (FONSI) issued in connection with the project. The EA, FONSI, and other documents from the FHWA administrative record files for the listed project is available by contacting the FHWA or the State of Alaska Department of Transportation & Public Facilities at the addresses provided above. EA and FONSI documents can be viewed and downloaded from the project Web site at http://www.dowlingroad.com or viewed at 4111 Aviation Avenue, Anchorage, Alaska 99519.

This notice applies to all FHWA decisions and approvals on the listed project as of the issuance date of this notice and all laws and Executive Orders under which such actions were taken, including but not limited to:

1. General: National Environmental Policy Act (NEPA) [42 U.S.C. 4321-4351]; Federal-Aid Highway Act [23 U.S.C. 109].

2. Air: Clean Air Act, [42 U.S.C. 7401-7671(q)].

3. Land: Section 4(f) of the Department of Transportation Act of 1966 [49 U.S.C. 303].

4. Wildlife: Endangered Species Act of 1973 [16 U.S.C. 1531-1544 and Section 1536]; Anadromous Fish Conservation Act [16 U.S.C. 757(a)-757(g)]; Fish and Wildlife Coordination Act [16 U.S.C. 661-667(d)], Migratory Bird Treaty Act [16 U.S.C. 703-712]; Magnuson-Stevenson Fishery Conservation and Management Act 1976 as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act [33 U.S.C. 1251-1377]; Coastal Zone Management Act [16 U.S.C. 1451-1465]; Land and Water Conservation Fund (LWCF) [16 U.S.C. 4601-4604]; Wild and Scenic Rivers Act [16 U.S.C. 1271-1287].

8. Executive Orders: E.O. 11990 Protection of Wetlands; E.O. 11988 Floodplain Management; E.O. 12898, Federal Actions to Address Environmental Justice in Minority Populations and Low Income Populations; E.O. 13186 Migratory Birds; E.O. 11514 Protection and Enhancement of Environmental Quality.

The project subject to this notice is:

Project: West Dowling Road Connection Project. Project Location: Anchorage, Alaska, Municipality of Anchorage, West Dowling Road. Project Reference Number: STP-0532(5) Project type: Road improvements and extension of Dowling Road between Old Seward Highway and Minnesota Drive, a distance of approximately 1.65 miles. The Dowling Road arterial will be extended from B Street to Minnesota Drive and will be widened to 5 lanes between Old Seward Highway and B Street with associated improvements to railroad crossings, traffic control, lighting, drainage, noise barriers, bridges, and trails. These improvements are needed to address current and future connectivity and accessibility needs and to address the need for an east-west arterial between Tudor Road and Dimond Boulevard as outlined in the Anchorage Bowl Long Range Transportation Plan. NEPA document: An EA and FONSI were approved on April 1, 2008, and are available electronically at http://www.dowlingroad.com.

(Catalog of Federal Domestic Assistance Program Number 20.205, Highway Planning and Construction. The regulations implementing Executive Order 12372 regarding intergovernmental consultation on Federal programs and activities apply to this program.)

Authority: 23 U.S.C. 139(l)(1)

David C. Miller,
Division Administrator, Juneau, Alaska.

[FR Doc. E8-13636 Filed 6-26-08; 8:45 am]

BILLING CODE 4910-RY-P